DEPARTMENT OF HOMELAND SECURITY

Coast Guard

46 CFR Part 45

[Docket No. USCG-2013-0954]

Special Load Line Exemption for Lake Michigan: Petition for Rulemaking

AGENCY: Coast Guard, DHS.

ACTION: Requests for comments on petitions for rulemaking.

SUMMARY: The Coast Guard announces the availability of several requests for a rulemaking, and requests public comment accordingly. The requesters are petitioning the Coast Guard to establish a special load line-exempted route on Lake Michigan. This exemption would allow non-load line river barges to transit along the eastern shore of Lake Michigan, between Chicago (Calumet Harbor), IL, and Muskegon, MI. This is similar to an existing exempted route along the western shore between Calumet and Milwaukee, WI.

DATES: Comments and related material must either be submitted to our online docket via http://www.regulations.gov on or before August 25, 2014, or reach the Docket Management Facility by that date.

ADDRESSES: You may submit comments identified by docket number USCG-2013-0954 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand Delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this document, contact Mr. Thomas Jordan, Naval Architecture Division (CG-ENG-2), U.S. Coast Guard Headquarters, at telephone 202-372-1370, or by email at thomas.d.jordan@uscg.mil. If you have questions on viewing or submitting material to the docket, call Cheryl F. Collins, Program Manager, Docket Operations, telephone 202-366-9826.

SUPPLEMENTARY INFORMATION:

Public Participation and Request for Comments

We encourage you to submit comments and related material on the rulemaking petition for a special load line exemption on Lake Michigan. All comments received will be posted, without change, to http://www.regulations.gov and will include any personal information you have provided.

Submitting comments: If you submit a comment, please include the docket number for this document (USCG-2013-0954) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, search for “USCG-2013-0954,” click “Open the docket folder” and click the comment button. If you submit your comments by mail or hand delivery, submit them in an unbound format, no larger than 8 ½ by 11 inches, suitable for copying and electronic filing. If you submit them by mail and would like to know that they reached the Facility, please enclose a stamped, self-addressed postcard or envelope. We will consider all comments and material received during the comment period.

Viewing the rulemaking petition and comments: To view the petition and comments that have been submitted to the docket, go to http://www.regulations.gov, search for “USCG-2013-0954” and click “Open Docket Folder.” If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

The requesters are petitioning the Coast Guard to establish a special load line-exempted route along the eastern shore of Lake Michigan, which would allow non-load line river barges to transit between Chicago (Calumet Harbor), IL, and Muskegon, MI. This action pertains to current load line regulations, and the use of non-load line river barges on Lake Michigan (particularly on the Milwaukee and Burns Harbor routes; these are discussed further below).

Load line assignment. Most commercial vessels that are 79 feet in length or longer, and that proceed on domestic or international voyages outside the U.S. Boundary Line (including voyages on the Great Lakes) must be assigned a load line. The purpose of load line assignment is to ensure the overall seaworthiness of the vessel. This is accomplished through the application of several design and construction requirements, such as: Robust hull construction that can withstand severe sea conditions; protection of critical openings (such as hatchways, doors, ventilators, etc.) with weathertight or watertight closures; ensuring that the vessel has adequate stability and strength for all operating conditions; and limiting the loaded draft (by use of load line marks) to ensure that the vessel is not overloaded and has reserve buoyancy.

Furthermore, the vessel must be surveyed annually (by a surveyor from the load line assigning authority) to verify that all of these features are maintained in operable condition, and that no damage or modification has been done to the vessel that compromises its seaworthiness. The benefit in meeting these requirements is that the vessel is considered safe and seaworthy enough for offshore voyages, even under severe weather conditions. This gives the operator maximum flexibility in the commercial employment of the vessel. There are costs associated with load line assignment, however: Higher construction cost for the vessel, and the cost of the annual surveys.

Because river barges are not exposed to any sea conditions, they are not typically constructed to meet the load line standards for coastwise, offshore, or Great Lakes service. Although this makes them less expensive to build and operate, they do not qualify for load line assignment and therefore are not normally permitted to operate outside the Boundary Line.

(More information on load lines and the Boundary Line can be found on the Coast Guard's load line Web site at: http://www.uscg.mil/hq/cg5/cg5212/loadlines.asp)

Load line-exempted routes on Lake Michigan. At present, river barges can obtain a special load line that allows them to operate on Lake Michigan between Calumet and Muskegon, provided that they remain within 5 miles of the shoreline, transit only under favorable weather conditions, and only carry dry, non-hazardous cargoes. This load line is issued by the American Bureau of Shipping, who inspects (surveys) the vessel each year to ensure its continued seaworthiness.

Although non-load line river barges are not normally permitted to operate on the Lake, there are two specific routes where they are so permitted under restricted conditions: Between Calumet and Burns Harbor, IL, and between Calumet and Milwaukee, MI. The voyages are subject to weather limitations and certain other loading restrictions. The premise for these exempted routes is that weather conditions on the Lake are often benign, that accurate and timely forecasts are readily available, and that ports of refuge are close at hand along the route. This allows the river barges to avoid bad weather and safely transit along the Lake shore. The specific restrictions for these exempted routes are found in 46 CFR 45.171, et seq.

Petition for a special load line exemption. In order to promote barge transportation of certain agricultural products and cargoes, the petitioners have submitted to the Coast Guard a request to create a load line-exempted route along the eastern shore of Lake Michigan. These requests can be viewed in the docket, but to summarize: The request would effectively extend the existing Burns Harbor exemption up the eastern shore of Lake Michigan to Muskegon, MI. The actual restrictions would be very similar to those for the Milwaukee route.

The benefit of the exemption is that it would allow non-hazardous cargoes to be loaded onto ordinary, non-load line river barges at inland Mississippi River terminals for direct delivery to Muskegon and intermediate Lake ports, and for agricultural products to be similarly transported to downriver terminals.

Request for Comments

In deciding whether or not to move forward with the requested rulemaking, the Coast Guard must consider several issues: The safety of the operation, protection of the marine environment, resource demands on the Coast Guard (particularly compliance verification and enforcement), and the potential economic costs and benefits.

Public comments on these issues, as well as other points that are pertinent to this petition, are encouraged. Upon review, the Coast Guard will decide whether or not to proceed with a rulemaking to establish the proposed exempted route.

This document is issued under authority of 5 U.S.C. 552(a) and 46 U.S.C. 5108.

Dated: May 19, 2014.
F.J. Sturm,
Acting Director of Commercial Regulations and Standards.

[FR Doc. 2014-11931 Filed 5-23-14; 8:45 am]

BILLING CODE 9110-04-P